DEPARTMENT OF TRANSPORTATION

Federal Aviation Administration

14 CFR Part 71

[Docket No. FAA-2003-15119; Airspace Docket No. 03-AGL-06]

Proposed Establishment of Class E Airspace; Viroqua, WI

Correction

In proposed rule document 03-15674 beginning on page 36949 in the issue of Friday, June 20, 2003 make the following correction:

§ 71.1 [Corrected]

On page 36950, in § 71.1, in the first column, under the heading “AGL WI E5 Viroqua, WI [New]” in the second line, “(Lat. 43°34′47″4 N., ” should read “(Lat. 43°34′47″ N.,”.

[FR Doc. C3-15674 Filed 6-30-03; 8:45 am]

BILLING CODE 1505-01-D